DEPARTMENT OF JUSTICE

Antitrust Division

Notice Pursuant to the National Cooperative Research and Production Act of 1993—Society of Automotive Engineers, Inc.

Notice is hereby given that, on September 21, 2004, pursuant to section 6(a) of the National Cooperative Research and Production Act of 1993, 15 U.S.C. 4301 et. seq. (“the Act”), Society of Automotive Engineers, Inc., (“SAE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Society of Automotive Engineers, Inc., Warrendale, PA. The nature and scope of SAE's standards development activities are: The development of consensus standards for self-propelled vehicles including aerospace vehicles, aircraft, automobiles, trucks and buses, off-highway equipment vehicles, marine, rail and transit systems.

Dorothy B. Fountain,
Deputy Director of Operations, Antitrust Division.

[FR Doc. 04-25077 Filed 11-9-04; 8:45 am]

BILLING CODE 4410-11-M